DEPARTMENT OF THE INTERIOR

Fish and Wildlife Service

[FWS-R2-ES-2015-N207]; [FXES11130200000-167-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before December 17, 2015.

ADDRESSES: Susan Jacobsen, Chief, Division of Classification and Restoration, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6920.

SUPPLEMENTARY INFORMATION: The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-841359

Applicant: U.S. Forest Service—Gila National Forest, Silver City, New Mexico.

Applicant requests a new permit for research and recovery purposes to conduct presence/absence surveys of the following species in Arizona:

• Southwestern willow flycatcher (Empidonax traillii extimus)

• Gila chub (Gila intermedia)

• Loach minnow (Tiaroga cobitis)

• Spikedace (Meda fulgida)

Permit TE-78250B

Applicant: Erin Hatchett, Fort Worth, Texas.

Applicant requests a new permit for research and recovery purposes to conduct presence/absence surveys of black-capped vireo (Vireo atricapilla), golden-cheeked warbler (Dendroica chrysoparia), and southwestern willow flycatcher (Empidonax traillii extimus) within Arizona, New Mexico, Texas, Colorado, and Utah.

Permit TE-78414B

Applicant: Antoinette Taylor, Austin, Texas.

Applicant requests a new permit for research and recovery purposes to conduct presence/absence surveys of black-capped vireo (Vireo atricapilla) and golden-cheeked warbler (Dendroica chrysoparia) within Texas and Oklahoma.

Permit TE-800611

Applicant: SWCA Environmental Consultants, San Antonio, Texas.

Applicant requests an amendment to a current permit for research and recovery purposes to conduct salvage, transportation, research, and captive husbandry of the following species within Texas:

• Peck's Cave amphipod (Stygobromus [=Stygonectes] pecki)

• Comal Springs dryopid beetle (Stygoparnus comalensis)

• Comal Springs riffle beetle (Heterelmis comalensis)

• Fountain darter (Etheostoma fonticola)

• San Marcos gambusia (Gambusia georgei)

• Texas blind salamander (Typhlomolge rathbuni)

• Texas wild-rice (Zizania texana)

Permit TE-78168B

Applicant: Rachel McMath, Abilene, Texas.

Applicant requests a new permit for research and recovery purposes to conduct presence/absence surveys for black-capped vireo (Vireo atricapilla) within Texas.

Permit TE-778582B

Applicant: Richard Dolman, Abilene, Texas.

Applicant requests a new permit for research and recovery purposes to conduct presence/absence surveys for black-capped vireo (Vireo atricapilla) within Texas.

Permit TE-78170B

Applicant: Kendra Clardy, Abilene, Texas.

Applicant requests a new permit for research and recovery purposes to conduct presence/absence surveys for black-capped vireo (Vireo atricapilla) within Texas.

Permit TE-85077A

Applicant: Zara Environmental LLC, Manchaca, Texas.

Applicant requests an amendment to a current permit for research and recovery purposes to conduct salvage, transportation, research, and captive husbandry of the following species within Texas:

• Beetle (Rhadine exilis)

• Beetle (Rhadine infernalis)

• Helotes mold beetle (Batrisodes venyivi)

• Cokendolpher Cave harvestman (Texella cokendolpheri)

• Robber Baron Cave meshweaver (Cicurina baronia)

• Madla's Cave meshweaver (Cicurina madla)

• Bracken Bat Cave meshweaver (Cicurina venii)

• Government Canyon Bat Cave meshweaver (Cicurina vespera)

• Government Canyon Bat Cave spider (Neoleptoneta microps)

• Tooth Cave spider (Leptoneta myopica)

• Tooth Cave pseudoscorpion (Tartarocreagris texana)

• Bee Creek Cave harvestman (Texella reddelli)

• Kretschmarr Cave mold beetle (Texamaurops reddelli)

• Tooth Cave ground beetle (Rhadine persephone)

• Bone Cave harvestman (Texella reyesi)

• Coffin Cave mold beetle (Batrisodes texanus)

• Comal Springs dryopid beetle (Stygoparnus comalensis)

• Peck's Cave amphipod (Stygobromus [=Stygonectes] pecki)

• Comal Springs riffle beetle (Heterelmis comalensis)

• Black-capped vireo (Vireo atricapilla)

• Golden-cheeked warbler (Dendroica chrysoparia)

• Barton Springs salamander (Eurycea sosorum)

• Texas blind salamander (Typhlomolge rathbuni)

• Austin blind salamander (Eurycea waterlooensis)

• Fountain darter (Etheostoma fonticola)

• San Marcos gambusia (Gambusia georgei)

• Texas wild-rice (Zizania texana)

Permit TE-34030A

Applicant: Dustin McBride, Grapevine, Texas.

Applicant requests a new permit for research and recovery purposes to conduct presence/absence surveys for Houston toad (Bufo houstonensis) within Texas.

Permit TE-44542B

Applicant: Olsson Associates, Oklahoma City, Oklahoma.

Applicant requests an amendment to a current permit for research and recovery purposes to conduct presence/absence surveys of American burying beetle (Nicrophorus americanus) within Oklahoma and Nebraska.

Permit TE-783902B

Applicant: Kristy Cosby, Pawhuska, Oklahoma.

Applicant requests a new for research and recovery purposes to conduct presence/absence surveys of American burying beetle (Nicrophorus americanus) within Oklahoma.

Permit TE-78959A

Applicant: Sarah Anne Weber, Spring Branch, Texas.

Applicant requests an amendment to a current permit for research and recovery purposes to conduct presence/absence surveys for black-capped vireo (Vireo atricapilla) within Texas.

Permit TE-039466

Applicant: USGS—Idaho Cooperative Fish and Wildlife Research Unit, Moscow, Idaho.

Applicant requests an amendment to a current permit for research and recovery purposes to trap, band, and attach radio transmitters to Yuma clapper rails (Rallus longirostris yumanensis) within Arizona and California.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority: We provide this notice under section 10 of the Act (16 U.S.C. 1531 et seq.).

Dated: November 5, 2015.
Joy E. Nicholopoulos,
Acting Regional Director, Southwest Region, U.S. Fish and Wildlife Service.

[FR Doc. 2015-29291 Filed 11-16-15; 8:45 am]

BILLING CODE 4333-15-P